DEPARTMENT OF COMMERCE

National Oceanic and Atmospheric Administration

National Climate Assessment Development and Advisory Committee; Announcement of Time Change and Meeting Location

AGENCY: National Oceanic and Atmospheric Administration, Department of Commerce.

ACTION: National Climate Assessment Development and Advisory Committee; Notice of Public Meeting; Announcement of time change and meeting location.

SUMMARY: This notice announces a change in the start time and provides the location of the meeting of the National Climate Assessment Development and Advisory Committee (NCADAC). The start time of the meeting on April 4, 2011, is changed from 9 a.m. to 8 a.m. Please see the notice published in the Federal Register on March 2, 2011 (76 FR 4562, March 2, 2011) for background information on the meeting. The full details of the meeting times and location are provided below.

The National Climate Assessment Development and Advisory Committee meeting on Monday, April 4—Wednesday, April 6 will be held at the L'Enfant Plaza Hotel, Ballrooms C and D, 480 L'Enfant Plaza SW., Washington, DC 20024. The meeting will be held at the following times: April 4, 2011, from 8 a.m. to 6 p.m.; April 5, 2011, from 8 a.m. to 6 p.m.; and April 6, 2011, from 8 a.m. to 2 p.m. The meeting may have limited seating capacity; seats are available on a first come-first served basis. For more information about the meeting agenda, see http://www.globalchange.gov.

During this public meeting, the NCADAC will discuss initial plans for development of a first draft of the NCADAC's Report to Congress and the President, as well as advising on the development of the Assessment process.

Public Comment Deadline: Public comments are being accepted in advance of the meeting and must be received by the NCADAC Designated Federal Official (DFO) by 12 p.m. (EDT) on March 31, 2011, to provide sufficient time for distribution to the members prior to the meeting. Written comments received after 12 p.m. (EDT) on March 31, 2011, will be distributed to the NCADAC, but may not be reviewed prior to the meeting date.

Special Accommodations: These meetings are physically accessible to people with disabilities. Requests for special accommodations may be directed no later than 12 p.m. on March 30, 2011, to Dr. Cynthia Decker, NCADAC Designated Federal Official (DFO), SSMC3, Room 11230, 1315 East-West Hwy., Silver Spring, MD 20910.

ADDRESSES: Any member of the public who wishes to submit oral or written comments should contact: Dr. Cynthia Decker, the NCADAC Designated Federal Official (DFO), SSMC3, Room 11230, 1315 East-West Hwy., Silver Spring, MD 20910. Phone: (301) 734-1156, Fax: (301) 713-1459. E-mail: cynthia.decker@noaa.gov.

FOR FURTHER INFORMATION CONTACT: Dr. Cynthia Decker, NCADAC Designated Federal Official (DFO), SSMC3, Room 11230, 1315 East-West Hwy., Silver Spring, MD 20910. Phone: (301) 734-1156, Fax: (301) 713-1459. E-mail: cynthia.decker@noaa.gov.

Jane Lubchenco,
Under Secretary of Commerce for Oceans and Atmosphere and NOAA Administrator.

[FR Doc. 2011-7429 Filed 3-29-11; 8:45 am]

BILLING CODE 3510-EA-P